DEPARTMENT OF ENERGY

[OE Docket No. PP-435]

Application for Presidential Permit; Houlton Water Company

AGENCY: Office of Electricity Delivery and Energy Reliability, DOE.

ACTION: Notice of application.

SUMMARY: Houlton Water Company (Houlton) has applied for a Presidential permit to construct, operate, maintain, and connect an electric transmission line across the United States border with Canada.

DATES: Comments or motions to intervene must be submitted on or before May 3, 2017.

ADDRESSES: Comments or motions to intervene should be addressed as follows: Office of Electricity Delivery and Energy Reliability (OE-20), U.S. Department of Energy, 1000 Independence Avenue SW., Washington, DC 20585.

FOR FURTHER INFORMATION CONTACT: Christopher Lawrence (Program Office) at 202-586-5260 or via electronic mail at Christopher.Lawrence@hq.doe.gov, Rishi Garg (Program Attorney) at 202-586-0258.

SUPPLEMENTARY INFORMATION: The construction, operation, maintenance, and connection of facilities at the international border of the United States for the transmission of electric energy between the United States and a foreign country is prohibited in the absence of a Presidential permit issued pursuant to Executive Order (E.O.) 10485, as amended by E.O. 12038.

On January 13, 2017, Houlton filed an application with the Office of Electricity Delivery and Energy Reliability of the Department of Energy (DOE) for a Presidential permit. Houlton Water Company has its principal place of business in Houlton, Maine. Houlton Water Company is the municipal utility owned by the Town of Houlton, Maine.

Houlton proposes to construct and operate the U.S. portion of the Houlton/New Brunswick Power Interconnection (the Project). In total, the project would be an approximately 11.8 mile overhead transmission system originating at the Woodstock, New Brunswick substation in Canada and terminate in the town of Houlton, Maine. From the Woodstock Substation, a 69kV transmission line would run approximately 9.3 miles to a new substation near the Canadian/U.S. border in Canada. From that substation, a 38kV line would run less than a mile to the U.S. border. From there a 1.5 mile, 38kV transmission line would extend from the U.S. border to connect into the Houlton, Maine electric distribution system.

The U.S. portion of the proposed project would cross the U.S.-Canada border near 67 degrees—46 min—52.48 sec W.; and 46 degrees—7 min—58.16 sec N.

The Project will be operated in accordance with mandatory reliability standards enforced by the North American Electric Reliability Corporation (NERC).

Since the restructuring of the electric industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the Federal Power Act and articulated in Federal Energy Regulatory Commission (FERC) Order No. 888 (Promoting Wholesale Competition Through Open Access Non-Discriminatory Transmission Services by Public Utilities; FERC Stats. & Regs. ¶31,036 (1996)), as amended.

Procedural Matters: Any person may comment on this application by filing such comment at the address provided above. Any person seeking to become a party to this proceeding must file a motion to intervene at the address provided above in accordance with Rule 214 of FERC's Rules of Practice and Procedure (18 CFR 385.214). Two copies of each comment or motion to intervene should be filed with DOE on or before the date listed above.

Additional copies of such motions to intervene also should be filed directly with: John Clark, General Manager, Houlton Water Company, 21 Bangor Street, Houlton, ME 04730 AND Greg Sherman, Assistant General Manager, Houlton Water Company, 21 Bangor Street, Houlton, ME 04730 AND Greg Williams, Temco Legal, LLC, 5060 Amesbury Drive, Columbia, MD 21044.

Before a Presidential permit may be issued or amended, DOE must determine that the proposed action is in the public interest. In making that determination, DOE considers the environmental impacts of the proposed project pursuant to the National Environmental Policy Act of 1969, determines the project's impact on electric reliability by ascertaining whether the proposed project would adversely affect the operation of the U.S. electric power supply system under normal and contingency conditions, and any other factors that DOE may also consider relevant to the public interest. Also, DOE must obtain the concurrences of the Secretary of State and the Secretary of Defense before taking final action on a Presidential permit application.

Copies of this application will be made available, upon request, for public inspection and copying at the address provided above, by accessing the program Web site at http://energy.gov/oe/services/electricity-policy-coordination-and-implementation/international-electricity-regulatio-2.

Issued in Washington, DC, on January 31, 2017.
Christopher A. Lawrence,
Electricity Policy Analyst, Office of Electricity Delivery and Energy Reliability.

[FR Doc. 2017-06487 Filed 3-31-17; 8:45 am]

BILLING CODE 6450-01-P